DEPARTMENT OF ENERGY

Federal Energy Regulatory Commission

[Docket No. EL02-121-004, et al.]

Occidental Chemical Corporation., et al.; Electric Rate and Corporate Filings

April 15, 2003.

The following filings have been made with the Commission. The filings are listed in ascending order within each docket classification.

1. Occidental Chemical Corporation v. PJM Interconnection, L.L.C. and Delmarva Power & Light Company

[Docket No. EL02-121-004]

Take notice that on April 11, 2003, PJM Interconnection, L.L.C. (PJM) submitted revisions to the PJM Open Access Transmission Tariff to comply with the directives issued by the Federal Energy Regulatory Commission in its March 12, 2003 order in this proceeding (Occidental Chem. Corp. v. PJM Interconnection, L.L.C., 102 FERC § 61,274 (2003)).

PJM states that copies of this compliance filing were served upon each person designated on the official service list compiled by the Secretary in this proceeding, all members of PJM, and each state electric utility regulatory commission in the PJM region.

Comment Date: May 12, 2003

2. Arizona Public Service Company, Pinnacle West Capital Corporation, Pinnacle West Energy Company, APS Energy Services

[Docket Nos. ER99-4124-001, ER00-2268-003, ER00-3312-002 and ER99-4122-004]

Take notice that on April 11, 2003, Arizona Public Service Company (APS) tendered for filing a revised Market Power Study for: APS FERC Electric Tariff, Volume No. 3; Pinnacle West Capital Corporation under Rate Schedule FERC No. 1; Pinnacle West Energy Corporation under PWEC FERC Electric Tariff Volume No. 1; and APS Energy Services under Rate Schedule FERC No. 1.

APS states that a copy of this filing has been served to all parties on the Service List attached to the April 11, 2003 filing.

Comment Date: May 2, 2003.

3. PJM Interconnection, L.L.C.

[Docket No. ER03-405-002]

Take notice that on April 11, 2003, PJM Interconnection, L.L.C., (PJM) tendered for filing a revised page of the PJM Open Access Transmission Tariff (PJM Tariff). PJM states that the proposed change is submitted to comply with the Commission's Order in this proceeding dated March 12, 2003.

PJM states that copies of this filing were served on all parties, as well as on all PJM Members and the state electric utility regulatory commissions in the PJM region.

Comment Date: May 2, 2003.

4. PJM Interconnection, L.L.C.

[Docket No. ER03-406-002]

Take notice that on April 11, 2003, PJM Interconnection, L.L.C., (PJM) submitted for filing in compliance with the Commission's Order of March 12, 2003, revisions to certain provisions of the PJM Open Access Transmission Tariff and the Amended and Restated Operating Agreement relating to PJM's annual Financial Transmission Right auction process.

PJM states that copies of this filing were served upon each person designated on the official service list of the Commission in this proceeding, all PJM members, and each state electric utility commission in the PJM region.

Comment Date: May 2, 2003.

5. California Independent System Operator Corporation

[Docket No. ER03-407-002]

Take notice that on April 11, 2003, the California Independent System Operator Corporation (ISO) submitted a filing in compliance with the Commission's March 12, 2003 “Order Conditionally Accepting Tariff Amendment For Filing, as Modified, Granting Waiver of Notice, and Directing Compliance Filing,” 102 FERC § 61,268 issued in Docket No. ER03-407-000.

The ISO states that copies of this filing have been served upon all entities that are on the official service list for Docket No. ER03-407-000.

Comment Date: May 2, 2003.

6. Florida Power & Light Company

[Docket No. ER03-716-001]

Take notice that on April 11, 2003 Florida Power & Light Company (FPL) tendered for filing a Notice of Withdrawal of FPL's March 28, 2003 filing of: (1) A Notice of Termination of an Interconnection & Operation Agreement (IOA) between FPL and CPV Gulfcoast, Ltd. (CPVG); and (2) a Notice of Withdrawal of a revised IOA filed on February 14, 2003, in Docket No. ER03-535-000. FPL states that the Notice of Withdrawal has been mutually agreed to by FPL and CPVG.

FPL states that this filing has been served upon CPVG, the Florida Public Service Commission and all parties on the Commission's Service List.

Comment Date: May 2, 2003.

7. Phelps Dodge Energy Services, LLC

[Docket No. ER03-568-001]

Take notice that on April 11, 2003, Phelps Dodge Energy Services, LLC filed additional information to supplement and amend its February 27, 2003 request to amend its market-based rate tariff, FERC Electric Rate Schedule No. 1, and its Code of Conduct to permit sales to its affiliates without making a separate filing under Section 205 under the Federal Power Act.

Comment Date: May 2, 2003.

8. Florida Power & Light Company

[Docket No. ER03-726-000]

Take notice that on April 11, 2003 Florida Power & Light Company (FPL) tendered for filing fully executed, revised service agreements with Duke Energy Trading and Marketing, L.L.C., for Long-Term Firm Transmission Service under FPL's OATT. FPL requests that these service agreements become effective on June 1, 2003.

FPL states that it has served this filing to Duke, the Florida Public Serivce Commission and the Commission's Service List.

Comment Date: May 2, 2003.

9. Texas-New Mexico Power Company

[Docket No. ES03-33-000]

Take notice that on April 8, 2003, Texas-New Mexico Power Company submitted an application pursuant to section 204 of the Federal Power Act seeking authorization to issue long-term, unsecured debt in an amount not to exceed $100 million.

Comment Date: May 6, 2003.

10. Portland General Electric Company

[Docket No. ES03-34-000]

Take notice that on April 11, 2003, Portland General Electric Company submitted an application pursuant to section 204 of the Federal Power Act seeking authorization to issue short-term debt securities in an amount not to exceed $550 million.

Comment Date: May 6, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9895 Filed 4-21-03; 8:45 am]

BILLING CODE 6717-01-P